ENVIRONMENTAL PROTECTION AGENCY

[EPA-HQ-OW-2015-0714; FRL-9936-47-OW]

Notice of a Public Meeting of the National Drinking Water Advisory Council

AGENCY: Environmental Protection Agency (EPA).

ACTION: Notice of a public meeting.

SUMMARY: The U.S. Environmental Protection Agency (EPA) is announcing a meeting of the National Drinking Water Advisory Council (NDWAC), as authorized under the Safe Drinking Water Act. The meeting is scheduled for November 17, 18 and 19, 2015. The NDWAC typically considers issues associated with drinking water protection and public drinking water systems. During this meeting, the NDWAC will focus discussions on developing recommendations for the EPA Administrator on the Lead and Copper National Primary Drinking Water Regulation—Long Term Revisions.

DATES: The meeting on November 17, 2015, will be held from 8:30 a.m. to 4:15 p.m.; November 18, 2015, from 8 a.m. to 5 p.m.; and November 19, 2015, from 8 a.m. to noon, eastern time.

ADDRESSES: The public meeting will be held in Crystal City, Arlington, Virginia. The exact location of the meeting will be noticed in the Federal Register no later than the week before the meeting, posted at http://water.epa.gov/drink/ndwac/ and posted at www.regulations.gov under Docket ID No. EPA-HQ-OW-2015-0714.

FOR FURTHER INFORMATION CONTACT: For more information about this meeting or to request written materials, contact Michelle Schutz of the Office of Ground Water and Drinking Water, U.S. Environmental Protection Agency, by phone at 202-564-7374 or by email at schutz.michelle@epa.gov. For additional information about the NDWAC meeting, please visit http://water.epa.gov/drink/ndwac/or www.regulations.gov (search for Docket ID No. EPA-HQ-OW-2015-0714).

SUPPLEMENTARY INFORMATION: Details about Participating in the Meeting: Teleconferencing will be available during the meeting. The number of teleconference connections available for the meeting is limited and will be offered on a first-come, first-served basis. The teleconference number is (1) 866-299-3188; when prompted, enter conference code 202 564 7347.

To ensure adequate time for public involvement, individuals or organizations interested in presenting an oral statement should notify Michelle Schutz by November 9, 2015, by email at schutz.michelle@epa.gov or by phone at 202-564-7374. The NDWAC will allocate 45 minutes for the public's input (from 9:30 a.m. to 10:15 a.m., eastern time) at the meeting on November 18, 2015. Oral statements will be limited to three minutes at the meeting. It is preferred that only one person present a statement on behalf of a group or organization. Any person who wishes to file a written statement can do so before or after the NDWAC meeting. Written statements intended for the meeting must be received by November 9, 2015, to be distributed to all members of the NDWAC before any final discussion or vote is completed. Any statement received on or after the date specified will become part of the permanent file for the meeting and will be forwarded to the NDWAC members for their information.

National Drinking Water Advisory Council: The NDWAC was created by Congress on December 16, 1974, as part of the Safe Drinking Water Act (SDWA) of 1974, Public Law 93-523, 42 U.S.C. 300j-5, and is operated in accordance with the provisions of the Federal Advisory Committee Act (FACA), 5 U.S.C. App. 2. The NDWAC was established under the SDWA to provide practical and independent advice, consultation and recommendations to the EPA Administrator on the activities, functions, policies and regulations required by the SDWA.

Special Accommodations: For information on access or services for individuals with disabilities, please contact Michelle Schutz at 202-564-7374 or by email at schutz.michelle@epa.gov. To request an accommodation for a disability, please contact Michelle Schutz at least 10 days prior to the meeting to give the hosting facility as much time as possible to process your request.

Dated: October 27, 2015.
Peter Grevatt,
Director, Office of Ground Water and Drinking Water.

[FR Doc. 2015-27883 Filed 10-30-15; 8:45 am]

BILLING CODE 6560-50-P